SMALL BUSINESS ADMINISTRATION

[Disaster Declaration #12459 and #12460]

California Disaster #CA-00162

AGENCY: U.S. Small Business Administration.

ACTION: Amendment 1.

SUMMARY: This is an amendment of the Administrative declaration of a disaster for the State of California dated 02/02/2011.

Incident: Severe Winter Storms, Flooding, and Debris and Mud Flows.

Incident Period: 12/17/2010 through 01/04/2011.

Effective Date: 02/18/2011.

Physical Loan Application Deadline Date: 04/04/2011.

Economic Injury (EIDL) Loan Application Deadline Date: 11/02/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of an Administrative declaration for the State of California, dated 02/02/2011 is hereby amended to include the following areas as adversely affected by the disaster.

Primary Counties: San Diego.

Contiguous Counties:

California: Imperial.

All other information in the original declaration remains unchanged.

(Catalog of Federal Domestic Assistance Numbers 59002 and 59008)

Dated: February 18, 2011.
Karen G. Mills,
Administrator.

[FR Doc. 2011-4429 Filed 2-28-11; 8:45 am]

BILLING CODE 8025-01-P